DEPARTMENT OF ENERGY

Federal Energy Regulatory Commission

[Docket No. EC01-116-000, et al.]

Duke Energy McClain, LLC, et al.; Electric Rate and Corporate Regulation Filings

June 18, 2001.

Take notice that the following filings have been made with the Commission:

1. Duke Energy McClain, LLC NRG Energy, Inc.

[Docket No. EC01-116-000]

Take notice that on June 12, 2001, Duke Energy McClain, LLC (Duke McClain) and NRG Energy, Inc. (NRG) (collectively, Applicants) filed with the Federal Energy Regulatory Commission an application pursuant to Section 203 of the Federal Power Act for authorization of the transfer of Duke Energy North America, LLC's (Duke Energy North America) 100 percent membership interests in Duke McClain to NRG (the Transaction). NRG will pay cash for the membership interests. Duke McClain is developing an approximately 500 MW natural gas-fired, combined cycle electric generating facility located in McClain County, Oklahoma (the Facility). Duke McClain will operate the facility. Applicants state that the Transaction may constitute the indirect disposition of jurisdictional facilities associated with the Facility (e.g., market-based rate schedules of Duke McClain and the sales agreements entered into thereunder, limited transmission interconnection facilities and jurisdictional books and records). Applicants request confidential treatment for the documents contained in Exhibit I and Schedule 1.

Comment date: August 13, 2001, in accordance with Standard Paragraph E at the end of this notice.

2. E.ON AG; Powergen plc; LG&E Energy Corporation; Louisville Gas and Electric Company; Kentucky Utilities Company;

[Docket No. EC01-115-000]

Take notice that on June 12, 2001, E.ON AG (E.ON), Powergen plc (Powergen), LG&E Energy Corporation (LG&E Energy), Louisville Gas and Electric Company (LG&E), and Kentucky Utilities Company (KU), on behalf of themselves and their subsidiaries that are subject to the Federal Energy Regulatory Commission's (Commission) jurisdiction under the Federal Power Act (FPA), filed with the Commission an application pursuant to section 203 of the FPA for an order authorizing the indirect transfer of control of jurisdictional facilities that will occur when E.ON, a company formed under the laws of the Federal Republic of Germany, acquires the shares of Powergen, a company formed under the laws of England and Wales. Powergen's subsidiaries include LG&E Energy, LG&E, and KU.

E.ON intends to purchase Powergen in accordance with the terms of a recommended cash offer for all of the issued and to be issued share capital of Powergen. Upon completion of the transaction, Powergen will become a wholly-owned subsidiary of E.ON.

Comment date: August 13, 2001, in accordance with Standard Paragraph E at the end of this notice.

3. Commonwealth Edison Company

[Docket No. ER01-780-001]

Take notice that on May 30, 2001, Commonwealth Edison Company (ComEd) tendered for filing with the Federal Energy Regulatory Commission (Commission), an Executed Settlement Agreement Between ComEd and Wisconsin Public Power Inc.

Comment date: July 3, 2001, in accordance with Standard Paragraph E at the end of this notice.

4. Pacific Gas and Electric Company

[Docket No. ER01-833-000]

Take notice that on June 13, 2001, Pacific Gas and Electric Company (PG&E) tendered for filing a Further Request for Deferral of Consideration of the unexecuted Wholesale Distribution Tariff Service Agreement and Interconnection Agreement between Pacific Gas and Electric Company and Modesto Irrigation District (MID) filed in FERC Docket No. ER01-833-000 on December 29, 2000. PG&E and Modesto are still discussing the final terms of these Agreements and PG&E therefore is notifying the Commission that the executed WDT and IA will not be filed by June 14, 2001, the second requested deferral date. PG&E requests that the Commission defer consideration of the WDT Service Agreement and IA filed in ER01-833-000 to August 14, 2001 or 60 days beyond the second request for Deferral in order that the parties may finalize the Agreements.

Copies of this filing have been served upon MID, the California Independent System Operator Corporation, and the California Public Utilities Commission.

Comment date: July 5, 2001, in accordance with Standard Paragraph E at the end of this notice.

5. PJM Interconnection, L.L.C.

[Docket No. ER01-1671-001]

Take notice that on June 13, 2001, in compliance with PJM Interconnection, L.L.C., 95 FERC ¶ 61,306 (2001), PJM Interconnection, L.L.C. (“PJM”), filed amendments to the PJM Open Access Transmission Tariff and the Amended and Restated Operating Agreement of PJM Interconnection, L.L.C. to modify the PJM 2001-2002 Load Response Pilot Program to clarify that PJM Technologies, Inc. will not qualify as a participant in the program and, to provide that PJM will file with the Federal Energy Regulatory Commission and post on its website an informational report that evaluates the effectiveness of the program.

Copies of this filing were served upon all PJM members and each state electric utility regulatory commission in the PJM control area.

Comment date: July 5, 2001, in accordance with Standard Paragraph E at the end of this notice.

6. Wisconsin Electric Power Company

[Docket No. ER01-2304-000]

Take notice that on June 13, 2001, Wisconsin Electric Power Company (Wisconsin Electric), tendered for filing with the Federal Energy Regulatory Commission (Commission), a Notice of Cancellation of its Rate Schedule No. 84 under Wisconsin Electric's Coordination Sales Tariff (CST), FERC Electric Tariff First Revised Volume No. 2.

Wisconsin Electric requests an effective date of June 4, 2001.

Copies of the filing are being served on El paso, the Michigan Public Service Commission and the Public Service Commission of Wisconsin.

Comment date: July 5, 2001, in accordance with Standard Paragraph E at the end of this notice.

7. Florida Power Corporation

[Docket No. ER01-2305-000]

Take notice that on June 13, 2001, Florida Power Corporation (FPC) filed a Service Agreement with Utility Board of the City of Key West under FPC's Cost-Based Rates Tariff (CR-1), FERC Electric Tariff No. 9.

FPC is requesting an effective date of June 15, 2001 for this Agreement.

A copy of this filing was served upon the Florida Public Service Commission.

Comment date: July 5, 2001, in accordance with Standard Paragraph E at the end of this notice.

8. Peoples Energy Services Corporation

[Docket No. ER01-2306-000]

Take notice that on June 13, 2001, Peoples Energy Services Corporation (PE Services), 205 North Michigan Avenue, Chicago, Illinois 60601, tendered for filing with the Federal Energy Regulatory Commission (Commission) a request pursuant to Section 35.12 of the Commission's Regulations, 18 CFR 35.12, for authorization to sell electricity at market-based rates pursuant to its proposed Rate Schedule FERC No. 1, all as more fully set forth in the application that is on file with the Commission and open to public inspection.

Comment date: July 5, 2001, in accordance with Standard Paragraph E at the end of this notice.

9. PSI Energy, Inc.

[Docket No. ER00-188-002]

Take notice that on June 12, 2001, PSI Energy, Inc. tendered for filing its refund compliance report in the above-referenced docket.

Comment date: July 3, 2001, in accordance with Standard Paragraph E at the end of this notice.

10. Rochester Gas and Electric Corporation

[Docket Nos. ER01-2053-001 and ER98-3382-000]

Take notice that on June 13, 2001, Rochester Gas and Electric Corporation filed with the Commission a correction to Section 1.1 of Original Sheet No. 1 of its market-based rate power sales tariff filed on May 15, 2001 in the above-referenced proceeding. The corrected tariff sheet is intended to supersede the Original Sheet No. 1 that was filed on May 15, 2001.

Comment date: July 5, 2001, in accordance with Standard Paragraph E at the end of this notice.

11. Tucson Electric Power Company

[Docket No. ER01-2313-000]

Take notice that on June 12, 2001, Tucson Electric Power Company tendered for filing one (1) Umbrella Service Agreement (for short-term firm service) and one (1) Service Agreement (for non-firm service) pursuant to Part II of Tucson's Open Access Transmission Tariff, which was filed in Docket No. ER01-208-000.

The details of the service agreements are as follows:

Umbrella Agreement for Short-Term Firm Point-to-Point Transmission Service dated as of April 20, 2001 by and between Tucson Electric Power Company and Portland General Electric Company—FERC Electric Tariff Vol. No. 2, Service Agreement No. 172. No service has commenced at this time.

Form of Service Agreement for Non-Firm Point-to Point Transmission Service dated as of April 11, 2001 by and between Tucson Electric Power Company and Portland General Electric Company—FERC Electric Tariff Vol. No. 2, Service Agreement No. 173. No service has commenced at this time.

Comment date: July 5, 2001, in accordance with Standard Paragraph E at the end of this notice.

12. Commonwealth Edison Company

[Docket No. ER01-2314-000]

Take notice that on June 13, 2001, Commonwealth Edison Company (ComEd) submitted for filing two Firm Point-to-Point Transmission Service Agreements (Agreements) with Duke Energy Trading and Marketing (Duke) and Edison Mission Marketing & Trading, Inc. (Edison) under the terms of ComEd's Open Access Transmission Tariff (OATT). A copy of this filing has been sent to Duke and Edison.

ComEd requests an effective date of June 1, 2001, and accordingly requests waiver of the Commission's notice requirements.

Comment date: July 5, 2001, in accordance with Standard Paragraph E at the end of this notice.

13. Black Hills Corporation, n/k/a Black Hills Power, Inc.

[Docket No. ER01-2315-000]

Take notice that Black Hills Corporation, d/b/a Black Hills Power, Inc., a wholly-owned subsidiary of Black Hills Corporation, Inc. (a South Dakota holding corporation), on June 12, 2001, tendered for filing an executed Service Agreement for Firm Point-to-Point Transmission Service with Black Hills Generation, Inc. Copies of the filing were provided to the regulatory commission of the states of Montana, South Dakota and Wyoming.

Black Hills Power, Inc. has requested that further notice requirement be waived and the tariff and executed service agreement be allowed to become effective May 1, 2001.

Comment date: July 5, 2001, in accordance with Standard Paragraph E at the end of this notice.

14. Idaho Power Company

[Docket No. ER01-2318-000]

Take notice that on June 13, 2001, Idaho Power Company filed a Service Agreement for Firm Point-to-Point Transmission Service between Idaho Power Delivery and Idaho Power Marketing, under its open access transmission tariff in the above-captioned proceeding.

SDG&E request an effective date of June 15, 2001 for both agreements.

Comment date: July 5, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15950 Filed 6-25-01; 8:45 am]

BILLING CODE 6717-01-P